DEPARTMENT OF ENERGY

Federal Energy Regulatory Commission

[Docket No. CP15-558-000]

PennEast Pipeline Company, LLC; Notice of Availability of the Final Environmental Impact Statement for the Proposed Penneast Pipeline Project

The staff of the Federal Energy Regulatory Commission (FERC or Commission) has prepared a final environmental impact statement (EIS) for the PennEast Pipeline Project, proposed by PennEast Pipeline Company, LLC (PennEast) in the above-referenced docket. PennEast requests authorization to construct and operate a 120.2-mile-long greenfield pipeline to provide 1.1 million dekatherms per day of year-round natural gas transportation service from northern Pennsylvania to markets in eastern and southeastern Pennsylvania, New Jersey, and surrounding states. The 120.2 miles would consist of 116.0 miles of 36-inch-diameter pipeline (78.3 miles in Pennsylvania and 37.7 miles in New Jersey) as well as three laterals totaling 4.2 miles, and up to 47,700 horsepower (hp) of compression at one new compressor station in Carbon County, Pennsylvania.

The final EIS assesses the potential environmental effects of the construction and operation of the PennEast Pipeline Project in accordance with the requirements of the National Environmental Policy Act (NEPA). The FERC staff concludes that approval of the proposed project, with the mitigation measures recommended in the EIS, would result in some adverse environmental impacts, but impacts would be reduced to less than significant levels with the implementation of PennEast's proposed and our recommended mitigation measures. This determination is based on our review of the information provided by PennEast and further developed from data requests; field investigations; scoping; literature research; alternatives analysis; and contacts with federal, state, and local agencies as well as Indian tribes and individual members of the public.

The U.S. Environmental Protection Agency (EPA), U.S. Army Corps of Engineers, and U.S. Department of Agriculture, Natural Resource Conservation Service participated as cooperating agencies in the preparation of the final EIS. Cooperating agencies have jurisdiction by law or special expertise with respect to resources potentially affected by the proposal and participate in the NEPA analysis. Although these agencies provided input to the conclusions and recommendations presented in the final EIS, the agencies will present their own conclusions and recommendations in any respective record of decision or determination for the project.

The final EIS addresses the potential environmental effects of the construction and operation of the following project facilities:

• 116.0 miles of new, 36-inch-diameter pipeline extending from Luzerne County, Pennsylvania to Mercer County, New Jersey;

• the 2.1-mile Hellertown Lateral consisting of 24-inch-diameter pipeline in Northampton County, Pennsylvania;

• the 0.6-mile Gilbert Lateral consisting of 12-inch-diameter pipeline in Hunterdon County, New Jersey;

• the 1.5-mile Lambertville Lateral consisting of 36-inch-diameter pipeline in Hunterdon County, New Jersey;

• new, 47,700 hp Kidder Compressor Station in Kidder Township, Carbon County, Pennsylvania; and

• associated aboveground facilities including eight metering and regulating stations for interconnections, eleven main line valve sites, and four pig launcher/receiver sites.

The FERC staff mailed copies of the final EIS to federal, state, and local government representatives and agencies; elected officials; environmental and public interest groups; Native American tribes; potentially affected landowners and other interested individuals and groups; and newspapers and libraries in the project area. Paper copy versions of this EIS (Volume 1 in paper copy with the remainder on CD) were mailed to those specifically requesting them; all others received a CD version of the complete document.

In addition, the final EIS is available for public viewing on the FERC's Web site (www.ferc.gov) using the eLibrary link. A limited number of copies are available for distribution and public inspection at: Federal Energy Regulatory Commission, Public Reference Room, 888 First Street NE., Room 2A, Washington, DC 20426. (202) 502-8371.

In accordance with the Council on Environmental Quality's (CEQ) regulations implementing NEPA, no agency decision on a proposed action may be made until 30 days after the EPA publishes a notice of availability of the final EIS in the Federal Register. However, the CEQ regulations provide an exception to this rule when an agency decision is subject to a formal internal appeal process that allows other agencies or the public to make their views known. In such cases, the agency decision may be made at the same time the notice of the final EIS is published, allowing both periods to run concurrently. The Commission decision for this proposed action is subject to a 30-day rehearing period.

Additional information about the project is available from the Commission's Office of External Affairs, at (866) 208-FERC, or on the FERC Web site (www.ferc.gov) using the eLibrary link. Click on the eLibrary link, click on “General Search,” and enter the docket number excluding the last three digits in the Docket Number field (i.e., CP15-558). Be sure you have selected an appropriate date range. For assistance, please contact FERC Online Support at FercOnlineSupport@ferc.gov or toll free at (866) 208-3676; for TTY, contact (202) 502-8659. The eLibrary link also provides access to the texts of formal documents issued by the Commission, such as orders, notices, and rulemakings.

In addition, the Commission offers a free service called eSubscription that allows you to keep track of all formal issuances and submittals in specific dockets. This can reduce the amount of time you spend researching proceedings by automatically providing you with notification of these filings, document summaries, and direct links to the documents. Go to www.ferc.gov/docs-filing/esubscription.asp.

Dated: April 6, 2017.
Kimberly D. Bose,
Secretary.

[FR Doc. 2017-07543 Filed 4-13-17; 8:45 am]

BILLING CODE 6717-01-P